DEPARTMENT OF HEALTH AND HUMAN SERVICES

National Institutes of Health

Center for Scientific Review; Amended Notice of Meeting

Notice is hereby given of a change in the meeting of the Center for Scientific Review Special Emphasis Panel, December 12, 2011, 1 p.m. to December 12, 2011, 3 p.m., (Telephone Conference Call), National Institutes of Health, 6701 Rockledge Drive, Bethesda, MD 20892 which was published in the Federal Register on November 3, 2011, 76 FR 68200-68201.

The meeting has been changed to a Video Assisted Meeting and will be held on December 14, 2011. The meeting location and time remain the same. The meeting is closed to the public.

Dated: November 9, 2011.
Jennifer S. Spaeth,
Director, Office of Federal Advisory Committee Policy.

[FR Doc. 2011-29728 Filed 11-16-11; 8:45 am]

BILLING CODE 4140-01-P